DEPARTMENT OF VETERANS AFFAIRS

Advisory Committee on Structural Safety of Department of Veterans Affairs Facilities; Notice of Meeting

The Department of Veterans Affairs (VA) gives notice under Public Law 92-463 (Federal Advisory Committee Act) that a meeting of the Advisory Committee on Structural Safety of Department of Veterans Affairs Facilities will be held on June 24-25, 2010, in Room 442, Export Import Bank, at 811 Vermont Avenue, NW., Washington, DC. The June 24 session will be from 9 a.m. until 5 p.m., and the June 25 session will be from 8:30 a.m. until 12:30 p.m. The meeting is open to the pubic.

The purpose of the Committee is to advise the Secretary of Veterans Affairs on matters of structural safety in the construction and remodeling of VA facilities and to recommend standards for use by VA in the construction and alteration of its facilities.

On June 24, the Committee will review developments in the fields of fire safety and structural design as they relate to impact of natural and manmade hazards on the safety of buildings. On June 25, the Committee will receive appropriate briefings and presentations on current seismic, natural hazards, and fire safety issues that are particularly relevant to facilities owned and leased by the Department. The Committee will also discuss appropriate structural and fire safety recommendations for inclusion in VA's standards.

No time will be allocated for receiving oral presentations from the public. However, the Committee will accept written comments. Comments should be sent to Krishna K. Banga, Senior Structural Engineer, Facilities Quality Service, Office of Construction & Facilities Management (00CFM1A), Department of Veterans Affairs, 810 Vermont Avenue, NW., Washington, DC 20420, or e-mail at Krishna.banga@va.gov. Those wishing to attend should contact Mr. Banga at (202) 461-8219.

Dated: June 10, 2010.
By Direction of the Secretary.
Vivian Drake,
Acting Committee Management Officer.

[FR Doc. 2010-14369 Filed 6-14-10; 8:45 am]

BILLING CODE P